DEPARTMENT OF COMMERCE

United States Patent and Trademark Office

[Docket No. PTO-C-2014-0016]

National Medal of Technology and Innovation Extension of Deadline for 2014 Nominations

AGENCY: United States Patent and Trademark Office, Commerce.

ACTION: Notice and extension of deadline for nominations.

SUMMARY: The Department of Commerce (United States Patent and Trademark Office (USPTO)) is in the process of accepting nominations for the National Medal of Technology and Innovation (NMTI). Since establishment by Congress in the Stevenson-Wydler Technology Innovation Act of 1980, the President of the United States has awarded the annual National Medal of Technology and Innovation (initially known as the National Medal of Technology) to our nation's leading innovators. To ensure greater participation in the nomination process, the USPTO is extending the deadline for nominations from April 1, 2014 to June 2, 2014. If you know of a candidate who has made an outstanding contribution to the nation's economic, environmental, or social well-being through the promotion of technology, technological innovation, or the development of technological manpower, you are encouraged to submit a nomination.

ADDRESSES: Nominations should be made by completing the NMTI nomination form available at http://www.uspto.gov/about/nmti/index.jsp. Nomination forms should be submitted to John Palafoutas, Program Manager, National Medal of Technology and Innovation Program, by electronic mail to NMTI@uspto.gov or by postal mail to: John Palafoutas, NMTI Program Manager, United States Patent and Trademark Office, P.O. Box 1450, Alexandria, Virginia 22313-1450.

DATES: The deadline for submission of a nomination is June 2, 2014.

FOR FURTHER INFORMATION CONTACT: John Palafoutas, Program Manager, National Medal of Technology and Innovation Program, United States Patent and Trademark Office, 600 Dulany Street, Alexandria, VA 22314; telephone (571) 272-9821 or by electronic mail to nmti@uspto.gov.

SUPPLEMENTARY INFORMATION:

Background

As provided by Congress in the Stevenson-Wydler Technology Innovation Act of 1980, the National Medal of Technology was first awarded in 1985. On August 9, 2007, the President signed the America COMPETES (Creating Opportunities to Meaningfully Promote Excellence in Technology, Education, and Science) Act of 2007. The Act amended Section 16 of the Stevenson-Wydler Technology Innovation Act of 1980, changing the name of the Medal to the “National Medal of Technology and Innovation.” The NMTI is the highest honor awarded by the President of the United States to America's leading innovators in the field of technology and is given annually to individuals, teams, or companies/non-profits who have made outstanding contributions to the promotion of technology or technological innovation, or to the development of technological manpower for the improvement of the economic, environmental, or social well-being of the United States. The primary purpose of the NMTI is to recognize American innovators whose vision, creativity, and brilliance in moving ideas to market or in developing of the nation's technological manpower has had a profound and significant impact on our economy and way of life. The NMTI highlights the national importance of fostering technological innovation based upon solid science, resulting in commercially successful products and services. In order to ensure greater participation in the nomination process, the USPTO is extending the deadline for submitting a nomination from April 1, 2014 to June 2, 2014.

Eligibility and Nomination Criteria

Nomination Guidelines containing information on eligibility and nomination criteria are available at http://www.uspto.gov/about/nmti/guidelines.jsp.

Date: March 12, 2014.
Michelle K. Lee,
Deputy Under Secretary of Commerce for Intellectual Property and Deputy Director of the United States Patent and Trademark Office.

[FR Doc. 2014-06008 Filed 3-18-14; 8:45 am]

BILLING CODE 3510-16-P